DEPARTMENT OF HOMELAND SECURITY

Immigration and Customs Enforcement

[ICE No. 2338-04]

Senior Executive Service Performance Review Board

AGENCY: Immigration and Customs Enforcement, DHS.

ACTION: Notice.

SUMMARY: This notice announces the appointment of the members of the U.S. Immigration and Customs Enforcement Performance Review Board (PRB).

DATES: This notice is effective November 16, 2004. Membership is effective on the date of this notice.

FOR FURTHER INFORMATION CONTACT: Michele L. Burton, Director, Executive Services, Office of Human Resources Management, U.S. Customs and Border Protection, 1300 Pennsylvania Avenue, NW., Room 2.4-E, Washington, DC 20229. Telephone (202) 344-2525.

SUPPLEMENTARY INFORMATION: Title 5 U.S.C. 4314(c) requires each federal agency to establish one or more performance review boards to make recommendations, as necessary, in regard to the performance of senior executives within the agency. The purpose of the PRB is to review and make recommendations concerning proposed performance appraisals, ratings, bonuses, pay adjustments, and other appropriate personnel actions for incumbents of Senior Executive Service (SES) positions for which the Assistant Secretary, U.S. Immigration and Customs Enforcement (ICE), is the appointing authority. The Board will perform PRB functions for other Department of Homeland Security SES positions if requested.

This notice does not constitute a significant regulatory action as are defined under section 3(f) of Executive Order 12866. Therefore, DHS has not submitted this notice to the Office of Management and Budget.

Further, because this notice is a matter of agency organization, procedure and practice, DHS is not required to follow the rulemaking requirements under the Administrative Procedure Act (5 U.S.C. 553).

Composition of Agency PRB: The Board shall consist of at least three members. In the case of an appraisal of a career appointee, more than half of the members shall consist of career appointees. The names and titles of the PRB members are as follows:

David V. Aguilar, Chief, Border Patrol, U.S. Customs and Border Protection;

Dea Doris Carpenter, Deputy General Counsel, U.S. Citizenship and Immigration Services;

Joseph D. Cuddihy, Director, International Operations, U.S. Citizenship and Immigration Services;

Joseph E. Langlois, Director, Asylum, U.S. Citizenship and Immigration Services;

Janis A. Sposato, Deputy Associate Director of Operations, U.S. Citizenship and Immigration Services;

Terrance M. O'Reilly, Director, Office of Field Operations, U.S. Citizenship and Immigration Services.

The following SES executives are from U.S. Immigration and Customs Enforcement:

Marcy M. Forman, Director, Office of Investigations;

Wendell C. Shingler, Director, Federal Protective Service;

Paul E. Ladd, Counselor to the Assistant Secretary, Finance and Management;

Richard F. Mercier, Special Assistant to the Deputy Assistant Secretary; and

Robert W. Weber, Director, Office of Professional Responsibility.

Dated: November 9, 2004.
John P. Clark,
Deputy Assistant Secretary, Immigration and Customs Enforcement.

[FR Doc. 04-25334 Filed 11-15-04; 8:45 am]

BILLING CODE 4410-10-P